DEPARTMENT OF HEALTH AND HUMAN SERVICES

National Institutes of Health

Office of the Director, National Institutes of Health; Notice of Meeting

Pursuant to section 10(a) of the Federal Advisory Committee Act, as amended (5 U.S.C. App.), notice is hereby given of a meeting of the Advisory Committee to the Director, National Institutes of Health (ACD).

The meeting is virtual and open to the public. The HeLa Genome Data Access working group will present a summary of its assessment of requests to access HeLa cell genome sequence data in the NIH database of Genotype and Phenotype (dbGaP). The HeLa Genome Data Access working group report, as well as instructions for joining the virtual meeting, will be posted when available on the ACD Web site (http://acd.od.nih.gov). Additional information about the HeLa Genome Data Access working group can be accessed at http://acd.od.nih.gov/hegda.htm.

Name of Committee: Advisory Committee to the Director, National Institutes of Health.

Date: March 28, 2014.

Time: 10:00 a.m. to 2:00 p.m. Eastern Time.

Agenda: Presentation and discussion of the HeLA Genome Data Access Working Group Report.

Time 2:00 p.m. to 6:00 p.m. Eastern Time.

Agenda: Voting by ACD Members on Requests for Access to HeLa Genome Sequence Data.

Place: Virtual Meeting, Accessible at the following Web site: http://helaacd.nih.gov/access-requests/march-2014/.

Contact Information: Gretchen S. Wood, Staff Assistant, Office of the Director, One Center Drive, Building 1, Room 126, Bethesda, Maryland 20892-0148, Telephone: 301-496-4272, woodgs@od.nih.gov.

Any interested person may file written comments with the committee by forwarding the statement to the Contact Person listed on this notice. The statement should include the name, address, telephone number and when applicable, the business or professional affiliation of the interested person and must be sent by 5:00 p.m. Eastern Time on March 25, 2014. Statements will be posted on the ACD Web site and made accessible during this virtual meeting.

Dated: March 10, 2014.
Anna Snouffer,
Deputy Director, Office of Federal Advisory Committee Policy.

[FR Doc. 2014-05538 Filed 3-13-14; 8:45 am]

BILLING CODE 4140-01-P